DEPARTMENT OF THE INTERIOR

Bureau of Land Management

[XXX.LLAZG02000.71220000.KD0000.LVTFA0958340; AZA3116]

Notice of Availability of the Ray Land Exchange Final Supplemental Environmental Impact Statement/Proposed Resource Management Plan Amendments, Arizona

AGENCY: Bureau of Land Management, Interior.

ACTION: Notice of availability.

SUMMARY: In accordance with the National Environmental Policy Act of 1969, as amended, and Federal Land Policy and Management Act of 1976, as amended, the Bureau of Land Management (BLM), Gila District, Tucson Field Office has prepared a Final Supplemental Environmental Impact Statement (EIS)/Proposed Resource Management Plan (RMP) Amendments for the Ray Land Exchange and by this notice is announcing its availability.

DATES: BLM planning regulations state that any person who meets the conditions as described in the regulations may protest the BLM's proposed RMP amendments, which will change certain land tenure designations from “retention” to “disposal” for the Phoenix, Lower Sonoran, and Safford RMPs. A person who meets the conditions and files a protest must file the protest within 30 days of the date that the Environmental Protection Agency publishes its Notice of Availability in the Federal Register.

ADDRESSES: You may review the Final Supplemental EIS/Proposed RMP Amendments for the Ray Land Exchange at https://go.usa.gov/xEnKR. Instructions for filing a protest with the Director of the BLM regarding the Proposed RMP Amendments may be found online at https://www.blm.gov/programs/planning-and-nepa/public-participation/filing-a-plan-protest and at 43 CFR 1610.6-2.

FOR FURTHER INFORMATION CONTACT: Project Manager Michael Werner, telephone 602-417-9561; address: One North Central Avenue, Suite 800, Phoenix, AZ 85004-4427; email: mwerner@blm.gov. Persons who use a telecommunications device for the deaf (TDD) may call the Federal Relay Service (FRS) at 1-800-877-8339 to contact Mr. Werner during normal business hours. The FRS is available 24 hours a day, 7 days a week, to leave a message or question. You will receive a reply during normal business hours.

SUPPLEMENTARY INFORMATION: The BLM Gila District, Tucson Field Office, is issuing the Final Supplemental EIS/Proposed RMP Amendments for the Ray Land Exchange to supplement the environmental impact analysis in the original Ray Land Exchange/RMP Amendments Final EIS completed by the BLM in 1999. ASARCO LLC (ASARCO) proposed the Ray Land Exchange with the BLM in order to acquire up to 10,976 acres of public lands and federally owned mineral estate adjacent to its Ray Complex (Ray Mine and associated processing facilities near Hayden, AZ) and in the Casa Grande, AZ vicinity (the Selected Lands). In exchange, ASARCO is offering to the BLM 7,304 acres of private lands identified by the BLM as desirable for consolidating checkerboard land ownership and improving access to existing Federal land for traditional uses such as hunting and other recreation (the Offered Lands).

Through the exchange, the BLM has an opportunity to improve resource management efficiency by disposing of heavily encumbered, isolated, and difficult-to-manage public lands; and support Secretarial Order 3373 by acquiring lands that will consolidate ownership patterns in order to improve public access and conserve important natural resources. By acquiring the Selected Lands, ASARCO is seeking to consolidate its land holdings within and near areas of ongoing mineral development and to use the Selected Lands to support current and future mining-related operations.

The Proposed Action and alternatives presented and analyzed in the Final Supplemental EIS are the same as those presented and analyzed in the 1999 Final EIS. The Final Supplemental EIS supplements the 1999 Final EIS by providing clarifying analysis of potential environmental impacts of the land exchange and alternatives. Specifically, the Final Supplemental EIS analyzes and compares the effects of the land exchange on the foreseeable mining operations conducted on Federal lands under BLM regulations (the No Action Alternative) with the effects of the land exchange on the foreseeable mining operations conducted all or partially on private lands under applicable State and Federal laws (the Proposed Action and action alternatives). The Final Supplemental EIS summarizes cumulative impacts from the land exchange on all resources and land uses, including an evaluation of potential impacts to Native American traditional values. The Final Supplemental EIS also addresses any significant new information or circumstances that are relevant to analyzing the impacts of the land exchange or RMP amendments.

The Proposed Action (Agency Preferred Alternative) is to complete the Ray Land Exchange between the BLM and ASARCO. The Selected Lands consist of public lands that total 8,196 acres of full estate and 2,780 acres of subsurface mineral estate only in Pinal and Gila Counties in Arizona. The Offered Lands consist of ASARCO owned lands that total 6,944 acres of full estate and 360 acres of surface estate only located in Pinal and Mohave Counties in Arizona. The Offered Lands are private inholdings within the jurisdictional boundaries of the Tucson and Kingman Field Offices of the BLM.

The Final Supplemental EIS also includes a No Action Alternative under which no land exchange would occur nor would the Phoenix, Lower Sonoran, or Safford District RMPs need to be amended. Two additional action alternatives are also analyzed. The Buckeye Land Exchange Alternative involves reducing the total acreages disposed of and acquired in the land exchange. The amount of the Selected Lands under this alternative is reduced to approximately 10,176 acres from approximately 10,976 acres by excluding about 800 acres in the Copper Butte area, and removing 640 acres of the McCracken Mountains Parcels from the Offered Lands. The Copper Butte Land Exchange Alternative also involves a reduced acreage exchange. The Copper Butte Land Exchange Alternative would reduce the total acreage of the Selected Lands to approximately 9,161 acres from approximately 10,976 acres by excluding acres in the Copper Butte area, and removing 1,703 acres of the McCracken Mountains Parcels from the Offered Lands.

RMP amendments to the Phoenix, Lower Sonoran, and Safford RMPs are required, as most of the Selected Lands have not been designated for disposal through previous BLM planning processes. The BLM's selected RMP Amendments decisions will change certain land tenure designations from “retention” to “disposal” of 10,976 acres for the Phoenix, Lower Sonoran, and Safford RMPs:

1. Approximately 9,906 acres designated in the Phoenix RMP as part of the White Canyon Resource Conservation Area to be changed from retention to disposal; and

2. Approximately 637 acres designated in the Lower Sonoran RMP to be changed from retention to disposal; and

3. Approximately 433 acres designated in the Safford District RMP as part of the former Safford District Long-Term Management Area to be changed from retention to disposal.

The Proposed Action and alternatives presented and analyzed in the Final Supplemental EIS are the same as those presented and analyzed in the Final EIS. However, since updated appraisals revealed in 2018 that the value of the Selected Lands had increased, omitting some of these lands will be necessary to comply with the statutory requirement that the Federal and private lands to be exchanged be in equal value, with no more than a 25 percent cash equalization payment included. Therefore, the BLM's final decision will require a modification of the Proposed Action presented in the Final Supplemental EIS. Based on the 2018 appraisals, BLM likely would dispose of only 9,339 acres (7,196 acres of full estate and 2,143 acres of subsurface mineral estate only, the surface of which is owned by ASARCO). ASARCO would be required to make up the difference in value with a cash equalization payment.

The BLM was not required to conduct scoping for the Supplemental EIS. However, the agency has conducted public outreach activities to inform the public and answer questions regarding the proposed land exchange. The efforts included conducting four public meetings, contacting persons on an updated mailing list persons via postcard and newsletter, providing a detailed project website, and interviewing key stakeholders to present the land exchange details and answer questions.

The formal 90-day public comment period for the Draft Supplemental EIS began on November 17, 2017, with the publication of a Notice of Availability by the Environmental Protection Agency in the Federal Register (82 FR 54408), and ended on February 16, 2018. Public comments were used to inform this Final Supplemental EIS and proposed plan amendments. Public comments resulted in the addition of clarifying text, but did not significantly change the environmental analysis or proposed plan amendment decisions. The BLM has responded to substantive comments and made appropriate revisions to the Final Supplemental EIS, or explained why a comment did not warrant a change.

All protests on the land tenure designation changes from “retention” to “disposal” must be in writing and submitted, as set forth in the DATES and ADDRESSES sections.

The BLM Director will render a written decision on each land use plan protest. The decision will be mailed to the protesting party. The decision of the BLM Director shall be the final decision of the Department of the Interior on each land use plan protest. Responses to land use plan protest issues will be compiled and formalized in a Director's Protest Resolution Report made available following issuance of the decisions.

Upon resolution of all land use plan protests, the BLM will issue a Record of Decision, which will include information on any further opportunities for public involvement. Before including your address, phone number, email address, or other personal identifying information in your protest, you should be aware that your entire protest—including your personal identifying information—may be made publicly available at any time. While you can ask us in your protest to withhold your personal identifying information from public review, we cannot guarantee that we will be able to do so.

(Authority: 40 CFR 1506.6, 40 CFR 1506.10, 43 CFR 1610.2, 43 CFR 1610.5)

A. Scott Feldhausen,
Gila District Manager.

[FR Doc. 2019-14714 Filed 7-11-19; 8:45 am]

BILLING CODE 4310-32-P